DEPARTMENT OF THE INTERIOR

National Park Service

Notice of Inventory Completion: Slater Museum of Natural History, University of Puget Sound, Tacoma, WA

AGENCY: National Park Service, Interior.

ACTION: Notice.

Notice is here given in accordance with the Native American Graves Protection and Repatriation Act (NAGPRA), 25 U.S.C. 3003, of the completion of an inventory of human remains in the possession of the Slater Museum of Natural History, University of Puget Sound, Tacoma, WA. The human remains were probably removed from Oregon.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by the Slater Museum of Natural History, University of Puget Sound professional staff and a consultant in consultation with representatives of the Confederated Tribes of the Umatilla Reservation, Oregon.

On an unknown date, human remains representing a minimum of one individual were probably removed from Oregon by Robert McManus and given to Stanley G. Jewett. Mr. Jewett donated the human remains to the Slater Museum in 1955. No known individual was identified. No associated funerary objects are present.

Written on the right side of the skull is, “One of Poker Jim's warriors found near where he was killed. April 1918, Robt. McManus” and next to it “SGJ” circled in ink. Poker Jim was a Umatilla chief (Dorys N. Crow, “Poker Jim: Chief of the Walla Wallas,” The Sunday Oregonian Magazine, December 7, 1952; Diana LaSarge, Cultural Affiliation Document for the Cayuse, Umatilla, and Walla Walla Tribes, 2002; Jennifer Karson, Wiyaxayxt/ Wiyaakaa'awn/As Days Go by: Our History, Our Land, Our People: The Cayuse, Umatilla, And Walla Walla, 2006).

The individual is most likely of Native American ancestry as indicated by morphological features. The geographical location where the human remains were presumably recovered is consistent with the historically documented territory of the tribes now represented by the Confederated Tribes of the Umatilla Reservation, Oregon. Information provided during consultation with tribal representatives, indicates that the human remains share a common ancestry with members of tribes now represented by the Confederated Tribes of the Umatilla Reservation, Oregon.

Officials of the Slater Museum of Natural History have determined that, pursuant to 25 U.S.C. 3001 (9-10), the human remains described above represent the physical remains of one individual of Native American ancestry. Officials of the Slater Museum of Natural History also have determined that, pursuant to 25 U.S.C. 3001 (2), there is a relationship of shared group identity that can be reasonably traced between the Native American human remains and the Confederated Tribes of the Umatilla Reservation, Oregon.

Representatives of any other Indian tribe that believes itself to be culturally affiliated with the human remains should contact Dr. John Finney, Associate Dean, University of Puget Sound, 1500 N. Warner, Tacoma, WA 98416, telephone (253) 879-3207, before June 18, 2007. Repatriation of the human remains to the Confederated Tribes of the Umatilla Reservation, Oregon may proceed after that date if no additional claimants come forward.

The Slater Museum of Natural History is responsible for notifying the Confederated Tribes of the Umatilla Reservation, Oregon that this notice has been published.

Dated: March 27, 2007.
Sherry Hutt,
Manager, National NAGPRA Program.

[FR Doc. E7-9449 Filed 5-16-07; 8:45 am]

BILLING CODE 4312-50-S